DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 25, 2023.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 11, 2023.
Donald P. Burger,
Chief, General Approvals and Permits Branch.

Application No. | Applicant | Regulation(s) affected | Nature of the special permits thereof
Special Permits Data—Granted
7835-M | Versum Materials US, LLC | 172.301(c), 177.848(d) | To modify the special permit to authorize DOT-SP 15267 packagings.
14163-M | Air Liquide Electronics U.S. LP | 173.301(g)(1)(ii) | To modify the special permit to authorize an additional hazardous material.
14266-M | GTM Manufacturing, LLC | 173.302(a)(1), 173.304(a) | To modify the special permit to authorize a service life extension program for the cylinders.
15343-M | Desert Air Transport, Inc | 172.101(j), 173.242 | To modify the special permit to authorize an additional packaging.
15963-M | Jack Harter Helicopters, Inc | 172.200, 175.75, 172.300, 172.400, 173.27, 175.30, 175.33, 175.75, 175.1, 175.3, 178.1 | To modify the special permit to authorize 14 CFR Part 135 aircraft, additional hazardous materials, and alternative packagings.
20356-M | Tesla, Inc | 172.101(j) | To modify the special permit to authorize an additional cell type.
20796-M | SodaStream USA Inc. | 172.400, 172.200, 172.300, 171.2(k), 172.700(a), 172.500 | To modify the special permit to authorize additional outer packagings.
20851-M | Call2recycle, Inc | 172.600, 172.200, 172.700(a) | To modify the special permit to authorize transportation other than that for recycling.
21139-M | KULR Technology Corporation | 172.600, 172.200, 172.300, 172.700(a), 172.400, 172.500, 173.185(b) | To modify the special permit to authorize ferry and cargo vessel, to authorize additional hazardous materials, and to increase the gross weight of the package.
21433-N | Pyrotek Special Effects Lititz | 173.306(k) | To authorize the transportation of used and partially full 2Q cans of flammable gas (Salamander or G-Flame cans) under 49 CFR § 107.306(k).
21478-N | Fibre Drum Sales, Inc | 172.200, 172.500 | To authorize the transportation in commerce of intermediate bulk containers (IBCs), containing only a residue of a hazardous material, in the manner authorized for non-bulk packagings in 49 CFR 173.29(c).
21491-N | Hanwha Cimarron LLC | 173.302(a) | To authorize the manufacture, mark, sale, and use of a non-DOT specification fully wrapped carbon fiber reinforced composite cylinder with a non-load sharing plastic liner for the purpose of transporting certain non-liquefied compressed gases in commerce. This cylinder meets all of the requirements of the ISO 11515 Standard.
21533-N | Samsung SDI Co., Ltd | 172.101(j) | To authorize the transportation in commerce of lithium ion batteries exceeding 35 kg by cargo-only aircraft.
21549-N | Repligen Corporation | 173.222(c)(2)(ii) | To authorize the transportation in commerce aboard aircraft of dangerous goods in apparatus containing a total net quantity of liquid hazardous material exceeding 0.5 L.
21578-N | Korean Air Lines Co., Ltd | 172.101(j), 175.30(a)(1) | To authorize the transportation in commerce of certain explosives that are forbidden for transportation aboard cargo-only aircraft.
21596-N | Federal Cartridge Company | 173.56(b) | To authorize the transportation in commerce of wet smokeless powder, alone or with combustible and non-combustible waste.
21612-N | Apex Logistics International Inc | 172.200, 172.300, 172.400, 173.185 | To authorize the transportation of lithium-ion batteries for the purposes of repackaging.
21621-N | US Army Corps of Engineers | 171-180 | To authorize the transportation in commerce of diesel fuel in bulk packages in support of Maui wildfire recovery and relief efforts.
21622-N | National Air Cargo Group, Inc | 172.101(j)(1), 173.27(b)(2), 175.30(a)(1) | To authorize the transportation in commerce aboard cargo-only aircraft of articles containing toxic gas, n.o.s. (anhydrous ammonia) contained within a spacecraft (satellite).
Special Permits Data—Denied
21613-N | Park Nicollet Methodist Hospital | 107.107 | Park Nicollet Methodist Hospital in accordance with the Department of Transportation Hazardous Materials Regulations in 49 CFR 107.107, is requesting party status to DOT-SP 20255.
Special Permits Data—Withdrawn
21567-N | Spaceflight, Inc | 173.185(a)(1), 173.185(b)(5) | To authorize the transportation in commerce of prototype lithium batteries integrated into a shipping container intended to transport spacecraft.

[FR Doc. 2023-20729 Filed 9-22-23; 8:45 am]

BILLING CODE 4910-60-P